DEPARTMENT OF COMMERCE

National Oceanic and Atmospheric Administration

[RTID 0648-XB173]

Marine Mammals; File No. 25508

AGENCY: National Marine Fisheries Service (NMFS), National Oceanic and Atmospheric Administration (NOAA), Commerce.

ACTION: Notice; receipt of application.

SUMMARY: Notice is hereby given that Sea World LLC (Responsible Party: Christopher Dold, DVM), 6240 Sea Harbor Drive, Orlando, Florida 32821, has applied in due form for a permit to continue captive maintenance and enhancement activities on two non-releasable Guadalupe fur seals (Arctocephalus townsendi) with the option of holding up to six non-releasable furs seals at any given time.

DATES: Written, telefaxed, or email comments must be received on or before July 26, 2021.

ADDRESSES: The application and related documents are available for review by selecting “Records Open for Public Comment” from the “Features” box on the Applications and Permits for Protected Species (APPS) home page, https://apps.nmfs.noaa.gov, and then selecting File No. 25508 from the list of available applications. These documents are also available upon written request via email to NMFS.Pr1Comments@noaa.gov.

Written comments on this application should be submitted via email to NMFS.Pr1Comments@noaa.gov. Please include File No. 25508 in the subject line of the email comment.

Those individuals requesting a public hearing should submit a written request via email to NMFS.Pr1Comments@noaa.gov. The request should set forth the specific reasons why a hearing on this application would be appropriate.

FOR FURTHER INFORMATION CONTACT: Courtney Smith, Ph.D. or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests authorization for the continued maintenance of two previously stranded Guadalupe fur seals that were deemed non-releasable and placed at Sea World of California for enhancement purposes. The proposed enhancement activities for these and other Guadalupe fur seals (up to six non-releasable fur seals at any given time) would include daily husbandry and veterinary care, behavioral observations, and programs to educate the public regarding Guadalupe fur seal natural history, distribution and population status. These animals would be placed on public display, incidental to the enhancement activities, and would not be trained for performance. Opportunistic scientific research may occur, under separate authorization, pending approval by the SeaWorld Animal Science and Welfare Team and the attending veterinarian. The applicant has requested a five-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 14, 2021.
Julia Marie Harrison,
Chief, Permits and Conservation Division, Office of Protected Resources, National Marine Fisheries Service.

[FR Doc. 2021-13425 Filed 6-23-21; 8:45 am]

BILLING CODE 3510-22-P